COMMITTEE FOR THE IMPLEMENTATION OF TEXTILE AGREEMENTS

Determination Under the Textile and Apparel Commercial Availability Provision of the United States-Colombia Trade Promotion Agreement (“US-Colombia TPA”)

AGENCY: The Committee for the Implementation of Textile Agreements.

ACTION: Determination to add a product in unrestricted quantities to Annex 3-B of the US-Colombia TPA.

DATES: Effective Date: March 27, 2013.

SUMMARY: The Committee for the Implementation of Textile Agreements (“CITA”) has determined that certain cotton corduroy fabric, as specified below, is not available in commercial quantities in a timely manner in the territory of either the United Sates or Colombia. The product will be added to the list in Annex 3-B of the US-Colombia TPA in unrestricted quantities.

FOR FURTHER INFORMATION CONTACT: Maria Dybczak, Office of Textiles and Apparel, U.S. Department of Commerce, (202) 482-3651.

For Further Information On-Line: http://web.ita.doc.gov/tacgi/PeruTPAReqTrack.nsf/ColombiaPetitionsApproved under “Approved Requests,” Reference number: 3.2013.02.22.Fabric.AM&SforBellaBliss

SUPPLEMENTARY INFORMATION:

Authority: The US-Colombia TPA; Section 203(o)(4) of the United States-Colombia Trade Promotion Agreement Implementation Act (“US-Colombia TPA Implementation Act”), Public Law 112-42 (October 21, 2011); the Statement of Administrative Action, accompanying the US-Colombia TPA Implementation Act; and Presidential Proclamation No. 8818, 77 FR 29519 (May 18, 2012).

Background

The US-Colombia TPA provides a list in Annex 3-B for fabrics, yarns, and fibers that the Parties to the US-Colombia TPA have determined are not available in commercial quantities in a timely manner in the territory of any Party. The US-Colombia TPA and the US-Colombia TPA Implementation Act provides that this list may be modified when the President of the United States determines that a fabric, yarn, or fiber is not available in commercial quantities in a timely manner in the territory of any Party. See Annex 3-B of the US-Colombia TPA; see also section 203(o)(4) of the US-Colombia TPA Implementation Act.

The US-Colombia TPA Implementation Act requires the President to establish procedures governing the submission of a request and providing opportunity for interested entities to submit comments and supporting evidence before a commercial availability determination is made. In Presidential Proclamation 8818, the President delegated to CITA the authority under section 203(o)(4) of the US-Colombia TPA Implementation Act for modifying the Annex 3-B list. Pursuant to this authority, on November 6, 2012, CITA published interim procedures it would follow in considering requests to modify the Annex 3-B list of products determined to be not commercially available in the territory of either the United States or Colombia (Interim Procedures for Considering Requests Under the Commercial Availability Provision of the United States-Colombia Trade Promotion Agreement, 77 FR 66588) (“CITA's procedures”).

On February 22, 2013, the Chairman of CITA received a request for a Commercial Availability determination (“Request”) from AM&S Trade Services, LLC on behalf of Bella Bliss, LLC for certain cotton corduroy fabric, as specified below. On February 26, 2013, in accordance with CITA's procedures, CITA notified interested parties of the Request, which was posted on the dedicated Web site for US-Colombia TPA Commercial Availability proceedings. In its notification, CITA advised that any Response with an Offer to Supply (“Response”) must be submitted by March 8, 2013, and any Rebuttal Comments to a Response must be submitted by March 14, 2013, in accordance with sections 6 and 7 of CITA's procedures. No interested entity submitted a Response to the Request advising CITA of its objection to the Request and its ability to supply the subject product.

In accordance with section 203(o)(4) of the US-Colombia TPA Implementation Act, and section 8(c)(2) of CITA's procedures, as no interested entity submitted a Response objecting to the Request and providing an offer to supply the subject product, CITA has determined to add the specified fabric to the list in Annex 3-B of the US-Colombia TPA.

The subject product has been added to the list in Annex 3-B of the US-Colombia TPA in unrestricted quantities. A revised list has been posted on the dedicated Web site for US-Colombia TPA Commercial Availability proceedings.

Specifications: Certain Cotton Corduroy Fabric

HTS Subheading: 5801.22.1000, 5801.22.9000

Wales: 6-10 wales per centimeter (19-23 wales per inch)

Fiber content: greater than 95% cotton by weight

Weight: 133-147 grams per square meter

Warp, ends per centimeter: 28-33

Filling, picks per centimeter: 66-73

Yarn counts:

Warp yarn: English—38-42; Metric 65-70

Filling yarn: English—38-42; Metric 65-70

Width: 134-153 centimeters; 53-60 inches

Finish: Cut, Desized

Note: The yarn size designations describe a range of yarn specifications for yarn in its greige condition before dyeing and finishing of the yarn (if applicable) and before knitting, dyeing and finishing of the fabric. They are intended as specifications to be followed by the mill in sourcing yarn used to produce the fabric. However, because dyeing, finishing, and knitting can alter the characteristic of the yarn as it appears in the finished fabric, the specification therefore includes yarns appearing in the finished fabric as finer or coarser than the designated yarn sizes provided that the variation occurs after processing of the greige yarn and production of the fabric. In addition, while the fabric is intended to be piece-dyed, the specifications include both piece- and yarn-dyed to accommodate any Customs' findings that the finished fabric appears to be yarn-dyed as a result of dye absorption.

Kim Glas,
Chairman, Committee for the Implementation of Textile Agreements.

[FR Doc. 2013-07055 Filed 3-26-13; 8:45 am]

BILLING CODE 3510-DS-P